DEPARTMENT OF COMMERCE

National Oceanic and Atmospheric Administration

RIN 0648-XA774

Marine Mammals; File No. 13927

AGENCY: National Marine Fisheries Service (NMFS), National Oceanic and Atmospheric Administration (NOAA), Commerce.

ACTION: Notice; issuance of permit.

SUMMARY: Notice is hereby given that a permit has been issued to Dr. James H.W. Hain, Associated Scientists at Woods Hole, Box 721, Woods Hole, MA 02543 to conduct research on North Atlantic right whales (Eubalaena glacialis) and humpback whales (Megaptera novaeangliae).

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Carrie Hubard or Amy Hapeman, (301) 427-8401.

SUPPLEMENTARY INFORMATION: On December 10, 2008, notice was published in the Federal Register (73 FR 75084) that a request for a permit to conduct research on 23 cetacean species had been submitted by the above-named applicant. An additional two species of pinnipeds and four species of sea turtles were listed as animals that could be incidentally harassed as a result of the research. A permit that authorizes some of the activities requested by the applicant has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 13927 authorizes aerial and vessel surveys to study North Atlantic right and humpback whales. Bottlenose (Tursiops truncatus) and Atlantic spotted dolphins (Stenella frontalis) may be incidentally harassed during research activities. Research may occur annually, December through April off the U.S. southeast coast. The permit is valid through October 31, 2016. Several aspects of the application request have been denied, including: (1) Research off the coast of the northeast United States; (2) takes of pinnipeds, sea turtles, and cetacean species other than those listed above; (3) the use of non-motorized vessels, such as kayaks; (4) research associated with Project II (studies of sightability and survey methodology as relates to Early Warning Systems and mitigation of human impacts, including development and evaluation of new and/or improved research methods); and (5) research associated with Project III.b (feeding behavior of baleen whales).

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on October 17, 2011.

As required by the ESA, issuance of this permit was based on a finding that such permit: (1) Was applied for in good faith; (2) will not operate to the disadvantage of such endangered species; and (3) is consistent with the purposes and policies set forth in section 2 of the ESA.

Dated: October 25, 2011.
Tammy C. Adams,
Acting Chief, Permits and Conservation Division, Office of Protected Resources, National Marine Fisheries Service.

[FR Doc. 2011-28082 Filed 10-28-11; 8:45 am]

BILLING CODE 3510-22-P